DEPARTMENT OF THE INTERIOR

National Park Service

Notice of Inventory Completion: San Diego Museum of Man, San Diego, CA

AGENCY: National Park Service, Interior.

ACTION: Notice.

Notice is here given in accordance with the Native American Graves Protection and Repatriation Act (NAGPRA), 25 U.S.C. 3003, of the completion of an inventory of human remains in the possession of the San Diego Museum of Man, San Diego, CA. The human remains were removed from Blalock Island, Benton County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the San Diego Museum of Man professional staff in consultation with representatives of the Confederated Tribes of the Umatilla Reservation, Oregon.

On an unknown date, human remains representing a minimum of one individual were removed from Blalock Island by an unknown person. Subsequently, the human remains were donated to Stanford University by W.H. Spaulding of Portland, OR. In 1981, the San Diego Museum of Man acquired the human remains from the Stanford University Anatomy Department. No known individual was identified. No associated funerary objects are present.

Blalock island, which is within the traditional lands of the Cayuse, Umatilla, and Walla Walla tribes, and the ceded lands of the Confederated Tribes of the Umatilla Reservation, Oregon was an important Native American fishing, camping, and burial site. The island is currently inundated by the waters of the John Day Dam Reservoir.

Officials of the San Diego Museum of Man have determined that, pursuant to 25 U.S.C. 3001 (9-10), the human remains described above represent the physical remains of one individual of Native American ancestry. Officials of the San Diego Museum of Man also have determined that, pursuant to 25 U.S.C. 3001 (2), there is a relationship of shared group identity that can be reasonably traced between the human remains and the Confederated Tribes of the Umatilla Reservation, Oregon.

Representatives of any other Indian tribe that believes itself to be culturally affiliated with the human remains should contact Javier Guerrero, NAGPRA Coordinator, San Diego Museum of Man, 1350 El Prado, San Diego, CA 92101, telephone (619) 239-2001, before January 9, 2006. Repatriation of the human remains to the Confederated Tribes of the Umatilla Reservation, Oregon may proceed after that date if no additional claimants come forward.

The San Diego Museum of Man is responsible for notifying the Confederated Tribes of the Umatilla Reservation, Oregon that this notice has been published.

Dated: October 11, 2005.
Sherry Hutt,
Manager, National NAGPRA Program.

[FR Doc. 05-23862 Filed 12-8-05; 8:45 am]

BILLING CODE 4312-50-S